DEPARTMENT OF COMMERCE

National Oceanic and Atmospheric Administration

RIN 0648-XF282

Endangered and Threatened Species; Listing and Recovery Priority Guidelines

AGENCY: National Marine Fisheries Service (NMFS), National Oceanic and Atmospheric Administration (NOAA), Commerce.

ACTION: Notice of availability; extension of comment period.

SUMMARY: On May 31, 2017, we, NMFS, published a notice of availability to revise the Recovery Plan Preparation and Implementation Priorities and Recovery Plans contained in the 1990 Listing and Recovery Priority Guidelines. We opened a public comment period that lasted through June 30, 2017. We received several requests to extend the public comment period. Thus, we are extending the period through August 28, 2017.

DATES: Comments on the proposed revision must be received by close of business on August 28, 2017.

ADDRESSES: You may submit comments on this document, identified by NOAA-NMFS-2017-0020 by either of the following methods:

• Federal e-Rulemaking Portal: Go to www.regulations.gov/#!docketDetail;D=NOAA-NMFS-2017-0020. Click the “Comment Now!” icon, complete the required fields, and enter or attach your comments.

• Mail: Submit written comments to Therese Conant, National Marine Fisheries Service, 1315 East-West Highway, Silver Spring, MD 20910.

Instructions: You must submit comments by one of the above methods to ensure that we receive, document, and consider them. Comments sent by any other method, to any other address or individual, or received after the end of the comment period, may not be considered. All comments received are a part of the public record and will generally be posted for public viewing on http://www.regulations.gov without change. All personal identifying information (e.g., name, address, etc.), confidential business information, or otherwise sensitive information submitted voluntarily by the sender will be publicly accessible. We will accept anonymous comments (enter “N/A” in the required fields if you wish to remain anonymous).

SUPPLEMENTARY INFORMATION:

Background

Section 4(f) of the Endangered Species Act (ESA) (16 U.S.C. 1533(f)) requires the Secretary to develop recovery plans for all species listed pursuant to the ESA, unless he/she finds that such a plan will not promote the recovery of the species. Section 4(h) of the ESA requires the Secretary to establish a system for developing and implementing, on a priority basis, recovery plans under Section 4(f). We finalized guidance for prioritizing recovery plan development and implementation on June 15, 1990 (55 FR 24296). However, through our application of the Recovery Plan Preparation and Implementation Priorities and Recovery Plans (see parts `B' and `C' 55 FR 24296; June 15, 1990), we have determined that the guidelines contain vague definitions and lack sufficient detail regarding factors that should be considered when evaluating threats and recovery potential. For these reasons, we published, on May 31, 2017 (82 FR 24944), proposed revisions to the Recovery Plan Preparation and Implementation Priorities and Recovery Plan parts of the 1990 Listing and Recovery Priority Guidelines. We solicited comments on the proposed revision to be submitted by June 30, 2017. On June 14 and June 16, 2017, we received requests to extend the public comment period by an additional 30 days and 90 days, respectively. Thus, we are extending the public comment period through August 28, 2017. Previously submitted comments do not need to be resubmitted.

Authority: 16 U.S.C. 1531 et seq.

Dated: June 26, 2017.
Catherine Marzin,
Acting Deputy Director, Office of Protected Resources, National Marine Fisheries Service.

[FR Doc. 2017-13714 Filed 6-29-17; 8:45 am]

BILLING CODE 3510-22-P